DEPARTMENT OF HEALTH AND HUMAN SERVICES

Administration for Children and Families

Submission for OMB Review; Comment Request

Title: Tribal TANF (Temporary Assistance to Needy Families) Experience: Problems, Solutions, and Lessons Learned.

OMB Number: New collection.

Description: The proposed research has four objectives: (1) To develop national-level research-based information on tribal TANF that is responsive to the needs of the tribal governments in making decisions on initiating their own TANF programs, as well as the needs of policymakers at federal, state, and local levels; (2) to develop objective performance measures for tribal TANF programs; (3) to develop a decision-support system to help tribal officials assess the advantages, disadvantages, risks and opportunities associated with operating a TANF program; and (4) to develop a tribal TANF Handbook that incorporates the experiences, best practices, and lessons learned.

Support Services International, Incorporated (SSI), an Indian-owned consulting firm, shall develop the data collection instruments and conduct the study. Data will be collected through (1) telephone surveys with staff at all current tribal TANF programs (a total of 27), a sample of 10 non-TANF tribes, and relevant officials in 20 states; (2) in-depth interviews with program staff on site visits to 9 tribes (7 TANF tribes and 2 non-TANF tribes); and (3) focus groups of 6-9 TANF recipients at each of the 7 tribal TANF sites visited. Four respondents at each site will be included in the telephone survey, and four in each in-dept on-site interview. The non-TANF tribes included in the research samples are from a group of tribes that have considered the option of developing and operating their own tribal-specific TANF programs; but have declined to do so.

Respondents: Individuals.

Annual Burden Estimates:

Data collection instrument | Estimated number of respondents | Responses per respondent | Average burden hour per interview * | Total burden hrs
Telephone Interview Guide | 228 | 1 | 0.50 hr (30 minutes) | 114 hr (6840 min)
Personal Interview Guide | 36 | 1 | 1.0 hr (60 minutes) | 36 hr (2160 min)
Focus Group Notes | 53 | 1 | 0.8 (50 minutes) | 44 hr (2650 min)
Estimated Total Annual Burden Hours |  |  |  | 194 Hours

There are no Capital Costs, Operating Costs and/or Maintenance Costs to report for this information collection.

Additional Information: You are invited to submit written comments or suggestions on one or more of the following points: (a) Whether the information collection activity is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology.

Copies of the proposed collection may be obtained by writing to The Administration for Children and Families, Office of Information Services, 370 L'Enfant Promenade, S.W., Washington, DC 20447, Attn: ACF Reports Clearance Officer.

OMB Comments

The Office of Management and Budget (OMB) is required to make a decision concerning this information collection between 30 and 60 days after publication of this document in the Federal Register. Therefore, a comment is best assured of having its best effect if OMB receives it within 30 days of this publication. Written comments and recommendations for the proposed information collection should be sent directly to the following address: Office of Management and Budget, Paperwork Reduction Project, 725 17th Street, NW., Washington, DC 20503, Attn: Desk Officer for ACF.

Dated: April 11, 2001.
Bob Sargis,
Reports Clearance Officer.

[FR Doc. 01-9402 Filed 4-16-01; 8:45 am]

BILLING CODE 4184-01-M